Title 3—

The President

Proclamation 8080 of October 31, 2006

Veterans Day, 2006

By the President of the United States of America

A Proclamation

Through the generations, America's men and women in uniform have defeated tyrants, liberated continents, and set a standard of courage and idealism for the entire world. On Veterans Day, our Nation pays tribute to those who have proudly served in our Armed Forces.

To protect the Nation they love, our veterans stepped forward when America needed them most. In conflicts around the world, their sacrifice and resolve helped destroy the enemies of freedom and saved millions from oppression. In answering history's call with honor, decency, and resolve, our veterans have shown the power of liberty and earned the respect and admiration of a grateful Nation.

All of America's veterans have placed our Nation's security before their own lives, creating a debt that we can never fully repay. Our veterans represent the best of America, and they deserve the best America can give them.

As we recall the service of our Soldiers, Sailors, Airmen, Marines, and Coast Guardsmen, we are reminded that the defense of freedom comes with great loss and sacrifice. This Veterans Day, we give thanks to those who have served freedom's cause; we salute the members of our Armed Forces who are confronting our adversaries abroad; and we honor the men and women who left America's shores but did not live to be thanked as veterans. They will always be remembered by our country.

With respect for and in recognition of the contributions our service men and women have made to the cause of peace and freedom around the world, the Congress has provided (5 U.S.C. 6103(a)) that November 11 of each year shall be set aside as a legal public holiday to honor veterans.

NOW, THEREFORE, I, GEORGE W. BUSH, President of the United States of America, do hereby proclaim November 11, 2006, as Veterans Day and urge all Americans to observe November 5 through November 11, 2006, as National Veterans Awareness Week. I encourage all Americans to recognize the valor and sacrifice of our veterans through ceremonies and prayers. I call upon Federal, State, and local officials to display the flag of the United States and to support and participate in patriotic activities in their communities. I invite civic and fraternal organizations, places of worship, schools, businesses, unions, and the media to support this national observance with commemorative expressions and programs.

IN WITNESS WHEREOF, I have hereunto set my hand this thirty-first day of October, in the year of our Lord two thousand six, and of the Independence of the United States of America the two hundred and thirty-first.

[FR Doc. 06-9069

Filed 11-1-06; 11:31 am]

Billing code 3195-01-P